COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add services to the Procurement List that will be provided by nonprofit agencies employing persons who are blind or have other severe disabilities, and deletes products previously furnished by such agencies.

DATES: Comments must be received on or before: 8/17/2015.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to provide the services listed below from nonprofit agencies employing persons who are blind or have other severe disabilities.

The following services are proposed for addition to the Procurement List for production by the nonprofit agencies listed:

Services

Service Type: Custodial Service

Service Mandatory for: U.S. Department of Defense Education Activity, Domestic Dependent Elementary and Secondary Schools (DDESS), Fort Bragg Community Schools, Fort Bragg, NC

Mandatory Source of Supply: Chimes District of Columbia (DC), Baltimore, MD

Contracting Activity: DDESS Area Service Center, Procurement Division, Peachtree City, GA

Service Type: Dining Facility Attendant Service

Service Mandatory for: U.S. Army, Mission and Installation Contracting Command, 1792 12th Street, Fort Riley, KS

Mandatory Source of Supply: Lakeview Center, Inc., Pensacola, FL

Contracting Activity: Dept of the Army, W6QM MICC-FT RILEY, Fort Riley, KS

Service Type: Inbound Mail Management Service

Service Mandatory for: Defense Finance and Accounting Service R & A, 1240 E. 9th Street, Cleveland, OH

Mandatory Source of Supply: Anthony Wayne Rehabilitation Center for Handicapped and Blind, Inc., Fort Wayne, IN

Contracting Activity: Defense Finance and Accounting Service Contract Services Directorate, Columbus, OH

Deletions

The following products are proposed for deletion from the Procurement List:

Products

NSN(s)—Product Name(s):

7530-01-072-2533—Paper, Mimeograph and Duplicating

Mandatory Source of Supply: Louisiana Association for the Blind, Shreveport, LA

Contracting Activity: General Services Administration, New York, NY

NSN(s)—Product Name(s):

7510-01-587-3931—Refill, Pencil Lead, Bio-Based and Biodegradable Pencil

7520-01-587-3932—Pencil, Mechanical, Bio-Based and Biodegradable

7520-01-587-3933—Pencil, Mechanical, Bio-Based and Biodegradable

7520-01-587-3934—Pencil, Mechanical, Bio-Based and Biodegradable

7520-01-587-3935—Pencil, Mechanical, Bio-Based and Biodegradable

7510-01-587-3936—Refill, Pencil Lead, Bio-Based and Biodegradable Pencil

Mandatory Source of Supply: San Antonio Lighthouse for the Blind, San Antonio, TX

Contracting Activity: General Services Administration, New York, NY

NSN(s)—Product Name(s):

7530-00-160-8476—Index Sheet Sets, Alphabetical, 9 ½″ x 6″, Buff

7530-01-456-6079—Index Sheet Sets, Tab 50

7530-01-456-6078—Index Sheet Sets, Tab 31

7530-01-456-6077—Index Sheet Sets, Tab 26

7530-01-456-6076—Index Sheet Sets, Tab 49

7530-01-456-6075—Index Sheet Sets, Tab 47

7530-01-456-6074—Index Sheet Sets, Tab 21

7530-01-456-6073—Index Sheet Sets, Tab 48

7530-01-456-6072—Index Sheet Sets, Tab 20

7530-01-456-6071—Index Sheet Sets, Tab 28

7530-01-456-6070—Index Sheet Sets, Tab 19

7530-01-456-6069—Index Sheet Sets, Tab 30

7530-01-456-6068—Index Sheet Sets, Tab 27

7530-01-456-6067—Index Sheet Sets, Tab 29

7530-01-456-6066—Index Sheet Sets, Tab 22

7530-01-456-6065—Index Sheet Sets, Tab 25

7530-01-456-6064—Index Sheet Sets, Tab 24

7530-01-456-6063—Index Sheet Sets, Tab 1

7530-01-456-6062—Index Sheet Sets, Tab 23

7530-01-456-6061—Index Sheet Sets, Tab 18

7530-01-456-6060—Index Sheet Sets, Tab 17

7530-01-456-6059—Index Sheet Sets, Tab 43

7530-01-456-6058—Index Sheet Sets, Tab 45

7530-01-456-6057—Index Sheet Sets, Tab 46

7530-01-456-6056—Index Sheet Sets, Tab 42

7530-01-456-6055—Index Sheet Sets, Tab 44

7530-01-456-6054—Index Sheet Sets, Tab 41

7530-01-456-6053—Index Sheet Sets, Tab 34

7530-01-456-6052—Index Sheet Sets, Tab 33

7530-01-456-6051—Index Sheet Sets, Tab 37

7530-01-456-6050—Index Sheet Sets, Tab 36

7530-01-456-6049—Index Sheet Sets, Tab 40

7530-01-456-6048—Index Sheet Sets, Tab 12

7530-01-456-6047—Index Sheet Sets, Tab 35

7530-01-456-6046—Index Sheet Sets, Tab 11

7530-01-456-6045—Index Sheet Sets, Tab 15

7530-01-456-6044—Index Sheet Sets, Tab 39

7530-01-456-6043—Index Sheet Sets, Tab 10

7530-01-456-6042—Index Sheet Sets, Tab 5

7530-01-456-6041—Index Sheet Sets, Tab 38

7530-01-456-6040—Index Sheet Sets, Tab 14

7530-01-456-6039—Index Sheet Sets, Tab 32

7530-01-456-6038—Index Sheet Sets, Tab 4

7530-01-456-6037—Index Sheet Sets, Tab 13

7530-01-456-6036—Index Sheet Sets, Tab 16

7530-01-456-6034—Index Sheet Sets, Tab 6

7530-01-456-6033—Index Sheet Sets, Tab 2

7530-01-456-6032—Index Sheet Sets, Tab 9

7530-01-456-6030—Index Sheet Sets, Tab 8

7530-01-456-6028—Index Sheet Sets, Tab 3

7530-01-456-6027—Index Sheet Sets, Tab 7

7530-01-456-2264—Index Sheet Sets, Tab O

7530-01-456-2263—Index Sheet Sets, Tab P

7530-01-456-2262—Index Sheet Sets, Tab N

7530-01-456-2261—Index Sheet Sets, Tab K

7530-01-456-2260—Index Sheet Sets, Tab L

7530-01-456-2259—Index Sheet Sets, Tab M

7530-01-456-2255—Index Sheet Sets, Tab T

7530-01-456-2254—Index Sheet Sets, Tab X

7530-01-456-2253—Index Sheet Sets, Tab Y

7530-01-456-2252—Index Sheet Sets, Tab S

7530-01-456-2251—Index Sheet Sets, Tab Z

7530-01-456-2250—Index Sheet Sets, Tab V

7530-01-456-2248—Index Sheet Sets, Tab W

7530-01-456-2247—Index Sheet Sets, Tab U

7530-01-456-2246—Index Sheet Sets, Tab R

7530-01-456-2245—Index Sheet Sets, Tab Q

7530-01-452-2043—Index Sheet Sets, Tab J

7530-01-452-2042—Index Sheet Sets, Tab H

7530-01-452-2041—Index Sheet Sets, Tab I

7530-01-452-2040—Index Sheet Sets, Tab D

7530-01-452-2039—Index Sheet Sets, Tab F

7530-01-452-2038—Index Sheet Sets, Tab G

7530-01-452-2037—Index Sheet Sets, Tab E

7530-01-452-2036—Index Sheet Sets, Tab C

7530-01-452-2035—Index Sheet Sets, Tab B

7530-01-452-2034—Index Sheet Sets, Tab A

Mandatory Source of Supply: Easter Seals Western and Central Pennsylvania, Pittsburgh, PA

Contracting Activity: General Services Administration, New York, NY

NSN(s)—Product Name(s):

7510-01-386-2265—Pencil, Fine-Line Writing

7510-00-286-5750—Pencil, Fine-Line Writing

7510-00-286-5751—Pencil, Fine-Line Writing

7510-00-286-5755—Pencil, Fine-Line Writing

Mandatory Source of Supply: Central Association for the Blind & Visually Impaired, Utica, NY, Industries for the Blind, Inc., West Allis, WI

Contracting Activity: General Services Administration, New York, NY

NSN(s)—Product Name(s):

7520-01-424-4855—Marker, Tube Type, Permanent Ink (Colossal) (Red)

7520-01-424-4870—Marker, Tube Type, Permanent Ink (Colossal) (Green)

7520-01-424-4880—Marker, Tube Type, Permanent Ink (Colossal) (Blue)

Mandatory Source of Supply: Dallas Lighthouse for the Blind, Inc., Dallas, TX

Contracting Activity: General Services Administration, New York, NY

NSN(s)—Product Name(s):

7530-00-NIB-0557—Folder, Classification

7530-00-NIB-0061—Folder, Classification

7530-00-NIB-0062—Folder, Classification

7530-00-NIB-0063—Folder, Classification

7530-00-NIB-0064—Folder, Classification

7530-00-NIB-0065—Folder, Classification

7530-00-NIB-0068—Folder, Classification

7530-00-NIB-0069—Folder, Classification

7530-00-NIB-0070—Folder, Classification

Mandatory Source of Supply: Clovernook Center for the Blind and Visually Impaired, Cincinnati, OH

Contracting Activity: General Services Administration, New York, NY

NSN(s)—Product Name(s):

7530-00-286-6983—Set, Index Sheet, 3 Hole Punched on 8½″ side, No Tab, Buff, 8½″ × 11″

7530-00-286-6984—Set, Index Sheet, 3 Hole Punched on 11″ side, No Tab, Buff, 8½″ × 11″

Mandatory Source of Supply: Louisiana Association for the Blind, Shreveport, LA

Contracting Activity: General Services Administration, New York, NY

NSN(s)—Product Name(s):

6505-01-009-2897—Mineral Oil, Lanolated

6505-00-890-2027—Mineral Oil, Lanolated

Mandatory Source of Supply: Montgomery County Chapter, NYSARC, Inc., Amsterdam, NY

Contracting Activity: Defense Logistics Agency Troop Support, Philadelphia, PA

NSN(s)—Product Name(s):

7210-01-244-9734—Mattress, Foam

7210-01-244-9735—Mattress, Foam

Mandatory Source of Supply: LC Industries, Inc., Durham, NC

7210-00-052-7327—Mattress, Foam

7210-00-290-8297—Mattress, Foam

7210-00-290-8298—Mattress, Foam

7210-00-290-8299—Mattress, Foam

7210-00-290-8300—Mattress, Foam

Mandatory Source of Supply: Winston-Salem Industries for the Blind, Inc., Winston-Salem, NC

Contracting Activity: Defense Logistics Agency Troop Support, Philadelphia, PA

NSN(s)—Product Name(s):

7530-00-NIB-0495—Index Tabs, Mylar Reinforced

7530-00-NIB-0494—Index Tabs, Mylar Reinforced

7530-00-NIB-0493—Index Tabs, Mylar Reinforced

7530-00-NIB-0492—Index Tabs, Mylar Reinforced

7530-00-NIB-0491—Index Tabs, Mylar Reinforced

7530-00-NIB-0490—Index Tabs, Mylar Reinforced

7530-00-NIB-0489—Index Tabs, Mylar Reinforced

Mandatory Source of Supply: South Texas Lighthouse for the Blind, Corpus Christi, TX

Contracting Activity: General Services Administration, New York, NY

NSN(s)—Product Name(s):

7520-00-NIB-1359—Easel, Wallboard, Magnetic

7520-00-NIB-1358—Easel, Wallboard, Magnetic

7520-00-NIB-1357—Easel, Wallboard, Magnetic

Mandatory Source of Supply: The Lighthouse for the Blind, Inc. (Seattle Lighthouse), Seattle, WA

Contracting Activity: General Services Administration, New York, NY

NSN(s)—Product Name(s):

7510-01-458-1816—Pencil, Woodcased, Camouflage

7510-01-451-9176—Pencil, Woodcased

7510-01-357-8952—Pencil, Writing, Recycled

7510-00-281-5235—Pencil, General Writing

7510-00-286-5757—Pencil, General Writing

Mandatory Source of Supply: Industries for the Blind, Inc., West Allis, WI

Contracting Activity: General Services Administration, New York, NY

NSN(s)—Product Name(s):

6515-00-NIB-8020—Gloves, Exam, Nitrile, Latex-Free, Powder-Free, W/Inner Aloe coating, 3 mil (palm), Green, x-Large

6515-00-NIB-8019—Gloves, Exam, Nitrile, Latex-Free, Powder-Free, W/Inner Aloe coating, 3 mil (palm), Green, Large

6515-00-NIB-8018—Gloves, Exam, Nitrile, Latex-Free, Powder-Free, W/Inner Aloe coating, 3 mil (palm), Green, Medium

6515-00-NIB-8017—Gloves, Exam, Nitrile, Latex-Free, Powder-Free, W/Inner Aloe coating, 3 mil (palm), Green, Small

6515-00-NIB-8016—Gloves, Exam, Nitrile, Latex-Free, Powder-Free, W/Inner Aloe coating, 3 mil (palm), Green, x-Small

6515-00-NIB-7231—Gloves, Exam, Nitrile, Latex-Free, Powder-Free, W/Aloe lining, Green, x-Large

6515-00-NIB-7230—Gloves, Exam, Nitrile, Latex-Free, Powder-Free, W/Aloe lining, Green, Large

6515-00-NIB-7229—Gloves, Exam, Nitrile, Latex-Free, Powder-Free, W/Aloe lining, Green, Medium

6515-00-NIB-7228—Gloves, Exam, Nitrile, Latex-Free, Powder-Free, W/Aloe lining, Green, Small

Mandatory Source of Supply: Bosma Industries for the Blind, Inc., Indianapolis, IN

Contracting Activity: Department of Veterans Affairs, NAC, Hines, IL

NSN(s)—Product Name(s):

7510-00-NIB-0566—Custom Planners & Accessory Kit

7510-00-NIB-0568—Custom Planners & Accessory Kit

7510-00-NIB-0571—Custom Planners & Accessory Kit

7510-00-NIB-0574—Custom Planners & Accessory Kit

7510-00-NIB-0576—Custom Planners & Accessory Kit

Mandatory Source of Supply: The Chicago Lighthouse for People Who Are Blind or Visually Impaired, Chicago, IL

Contracting Activity: General Services Administration, Household and Industrial Furniture, Arlington, VA

NSN(s)—Product Name(s):

7530-00-185-6752—Paper, Tabulating Machine

7530-00-144-9600—Paper, Tabulating

7530-00-144-9601—Paper, Tabulating

7530-00-144-9602—Paper, Tabulating

7530-00-144-9604—Paper, Tabulating

7530-00-185-6751—Paper, Tabulating

7530-00-185-6754—Paper, Tabulating

Mandatory Source of Supply: Association for Vision Rehabilitation and Employment, Inc., Binghamton, NY

Contracting Activity: General Services Administration, New York, NY

NSN(s)—Product Name(s):

MR 807—Spoon, Slotted, SS Trim

MR 809—Turner, Slotted, SS Trim

MR 810—Skimmer, Kitchen, SS Trim

MR 814—Spatula, Wide, SS Trim

MR 912—Duster, Microfiber

MR 913—Duster, Microfiber, Utility

Mandatory Source of Supply: Industries for the Blind, Inc., West Allis, WI

MR 844—Clip, Bag, Mini, Magnetic

MR 845—Plastic Bag Clip

Mandatory Source of Supply: The Lighthouse for the Blind, Inc. (Seattle Lighthouse), Seattle, WA

Contracting Activity: Defense Commissary Agency, Fort Lee, VA

Barry S. Lineback,
Director, Business Operations.

[FR Doc. 2015-17603 Filed 7-16-15; 8:45 am]

BILLING CODE 6353-01-P